DEPARTMENT OF DEFENSE

Office of the Secretary

Meeting of the Strategic Environmental Research and Development Program, Scientific Advisory Board

AGENCY: Department of Defense.

ACTION: Notice.

SUMMARY: This Notice is published in accordance with Section 10(a)(2) of the Federal Advisory Committee Act (Pub. L. 92-463). The topic of the meeting on June 16, 2011 is to review continuing research and development projects requesting Strategic Environmental Research and Development Program funds in excess of $1M. This meeting is open to the public. Any interested person may attend, appear before, or file statements with the Scientific Advisory Board at the time and in the manner permitted by the Board.

DATES: Thursday, June 16, 2011 from 8 a.m. to 2:30 p.m.

ADDRESSES: SpringHill Suites by Marriott, Pamlico Room, 300 Hotel Drive, New Bern, NC 28562.

FOR FURTHER INFORMATION CONTACT: Mr. Jonathan Bunger, SERDP Office, 901 North Stuart Street, Suite 303, Arlington, VA or by telephone at (703) 696-2126.

Dated: April 7, 2011.
Morgan F. Park,
Alternate OSD Federal Register Liaison Officer, Department of Defense.

[FR Doc. 2011-8635 Filed 4-11-11; 8:45 am]

BILLING CODE 5001-06-P